ENVIRONMENTAL PROTECTION AGENCY

[EPA-HQ-OPP-2015-0332; FRL-9947-43-OEI]

Agency Information Collection Activities; Information Collection Request Submitted to OMB for Review and Approval; Comment Request; Application for New and Amended Pesticide Registration

AGENCY: Environmental Protection Agency (EPA).

ACTION: Notice.

SUMMARY: EPA has submitted the following information collection request (ICR) to the Office of Management and Budget (OMB) for review and approval in accordance with the Paperwork Reduction Act (PRA): “Application for New and Amended Pesticide Registration” (EPA ICR No. 0277.17, OMB Control No. 2070-0060). This is a proposed extension of an existing ICR, which is currently approved through June 30, 2016. EPA received comments in response to the previously provided public review opportunity issued in the Federal Register on June 15, 2015 (80 FR 34153), which are addressed in this ICR. With this submission, EPA is providing an additional 30 days for public review.

DATES: Comments must be received on or before August 1, 2016.

ADDRESSES: Submit your comments, identified by Docket ID Number EPA-HQ-OPP-2015-0332, to (1) EPA online using http://www.regulations.gov (our preferred method), or by mail to: EPA Docket Center, Environmental Protection Agency, Mail Code 28221T, 1200 Pennsylvania Ave. NW., Washington, DC 20460, and (2) to OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lily G. Negash, Field and External Affairs Division (7506P), Office of Pesticide Programs, Environmental Protection Agency, 1200 Pennsylvania Ave. NW., Washington, DC 20460; telephone number: 703-347-8515; email address: negash.lily@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, WJC West, Room 3334, 1301 Constitution Ave. NW., Washington, DC. The telephone number for the Docket Center is 202-566-1744. For additional information about EPA's public docket, visit http://www.epa.gov/dockets.

Abstract: The renewal of this information collection request will enable the EPA to collect the information needed to evaluate an application for a pesticide registration, as required under section 3 of the Federal Insecticide, Fungicide, and Rodenticide Act (FIFRA) and section 408 of the Federal Food, Drug, and Cosmetic Act (FFDCA). Under FIFRA, EPA must evaluate pesticides thoroughly before they can be marketed and used in the United States, to ensure that they will not pose unreasonable adverse effects to human health and the environment. Pesticides that meet this test are granted a license or “registration” which permits their distribution, sale and use according to requirements set by EPA to protect human health and the environment.

Form Numbers: EPA Forms 8570-1, 8570-4, 8570-27, 8570-34, 8570-35, 8570-36, 8570-37.

Respondents/affected entities: 1,751.

Respondent's obligation to respond: Required to obtain or retain a benefit under section 3 of FIFRA, and implementing regulations 40 CFR parts 152, 156 and 158.

Estimated number of responses: 8,203 (total).

Frequency of response: On occasion.

Total estimated burden: 1,524,893 hours (per year). Burden is defined at 5 CFR 1320.03(b).

Total estimated cost: $108,720,767 (per year), includes $0 annualized capital or operation & maintenance costs.

Changes in the Estimates: There is a net increase of 1,356,689 hours in the total estimated respondent burden compared with the ICR currently approved by OMB. The increase is the result of EPA's updating of the methodology used to estimate the paperwork burden that involves the addition of previously unaccounted for burden for study data generation; while a decrease of approximately 23,000 hours reflects EPA's receipt of fewer number of applications. These changes are an adjustment.

Authority: 44 U.S.C. 3501 et seq.

Dated: June 23, 2016.
Matthew Leopard,
Director, Office of Information Collection.

[FR Doc. 2016-15737 Filed 6-30-16; 8:45 am]

BILLING CODE 6560-50-P